FEDERAL COMMUNICATIONS COMMISSION

Public Information Collections Approved by Office of Management and Budget

July 12, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

A. OMB Control No.: 3060-0853.

Expiration Date: December 31, 2001.

Title: Receipt of Service Confirmation Form, and Adjustment of Funding Commitment, and Certification by Administrative Authority to Billed Entity of Compliance with Children's Internet Protection.

Form No.: FCC Form 486, FCC Form 500, and FCC Form 479.

Respondents: Not for profit institutions; business or other for-profit.

Estimated Annual Burden: 40,000 respondents; 15.37 hours per response (avg.); 615,000 total annual burden hours (for all collections approved under this control number).

Estimated Annual Reporting and Recordkeeping Cost Burden: $0.

Frequency of Response: On occasion; third party disclosure.

Description: In a Report and Order issued in CC Docket No. 96-45, (FCC 01-120), released April 5, 2001, the Commission adopted rules to implement the Children's Internet Protection Act (CIPA). Congress included CIPA as part of the Consolidated Appropriations Act, 2001. Sections 1721 et seq. of CIPA provide that schools and libraries that have computers with Internet access must certify that they have in place certain Internet safety policies and technology protection measures in order to be eligible under section 254(h) of the Communications Act of 1934, as amended (the Act), to receive discounted Internet access, Internet services, and internal connection services. CIPA also requires that our rules implementing the statute be in effect by April 20, 2001. Specifically, in order to receive discounts for Internet access and internal connections services under the universal service support mechanism, school and library authorities must certify that they are enforcing a policy of Internet safety that includes measures to block or filter Internet access for both minors and adults to certain visual depictions. A school administrative authority must certify that its policy of Internet safety includes monitoring the online activities of minors. In order to receive discounts, school and library authorities must also certify that they had adopted and implemented an Internet safety policy addressing (i) access by minors to inappropriate matter on the Internet and World Wide Web; (ii) the safety and security of minors when using electronic mail, chat rooms, and other forms of direct electronic communications; (iii) unauthorized access; (iv) unauthorized disclosure, use, and dissemination of personal information regarding minors; and (v) measures designed to restrict minors' access to materials harmful to minors. For this funding year, schools and libraries must certify by October 28, 2001 that they have the policies and technology measures in place, or that they are undertaking such actions, including any necessary procurement procedures, to put them in place for the following funding year. Schools and libraries shall make the necessary certification in FCC Form 486, Receipt of Service Confirmation Form, which has been modified to incorporate procedures pursuant to CIPA. In cases involving consortia (or certain similar entities), the consortium leader will certify that it has received the certification required by CIPA from individual consortium members. All members the consortium must submit signed certifications to the billed entity of each consortium on a new form, FCC Form 479, Certification by Administrative Authority to Billed Entity of Compliance with Children's Internet Protection Act. The Billed Entity will be required to retain copies of the signed and completed FCC Form 479. See 47 CFR Section 54.520. The Commission did not modify FCC Form 500. The forms and instructions may be obtained at the SLD website, http://www.sl.universalservice.org/, or by contacting the SLD Client Service Bureau at 888-203-8100. Obligation to respond: Mandatory.

B. OMB Control No.: 3060-0774.

Expiration Date: June 30, 2004.

Title: Federal-State Joint Board on Universal Service, CC Docket No. 96-45 (47 CFR Sections 36.611 and 36.612 and 47 CFR Part 54).

Form No.: N/A.

Respondents: Not for profit institutions; business or other for-profit; State, Local or Tribal Government.

Estimated Annual Burden: 5,554,651 respondents; .33 hours per response (avg.); 1,853,807 total annual burden hours (for all collections approved under this control number).

Estimated Annual Reporting and Recordkeeping Cost Burden: $0.

Frequency of Response: On occasion; Quarterly; Annually; Third Party Disclosure; Recordkeeping.

Description: Congress directed the Commission to implement a new set of universal service support mechanisms that are explicit and sufficient to advance the universal service principles enumerated in 47 U.S.C. 254 and other such principles as the Commission believes are necessary and appropriate for the protection of the public interest, convenience and necessity, and are consistent with the Communications Act of 1934, as amended. Part 54 promulgates the rules and requirements to preserve and advance universal service. The collections are necessary to implement Section 254.

a. 47 CFR 36.611(a) & 36.612—Submission and updating information to the National Exchange Carrier Association. (No. of respondents: 1340; hours per response: 20 hours; total annual response: 26,900 hours).

b. 47 CFR 54.101(c)—Demonstration of exceptional circumstances. (No. of respondents: 50; hours per response: 2 hours; total annual burden: 100 hours).

c. 47 CFR 54.201(a)(2)—Submission of eligibility criteria. (No. of respondents: 100; hours per response: 4 hours; total annual burden: 400 hours).

d. 47 CFR 54.201(b)-(c)—Submission of eligibility criteria. (No. of respondents: 3400; ours per response: 1 hour; total annual burden: 3400 hours).

e. 47 CFR 54.201(d)(2)—Advertisement of services and charges. (No. of respondents: 1300; hours per response: 50 hours; total annual hours: 65,000).

f. 47 CFR 54.205(a)—Advance notice of relinquishment of universal service. (No. of respondents: 100; hours per response: .5 hours; total annual burden: 50 hours).

g. 47 CFR 54.207(c)(1)—Submission of proposal for redefining a rural service area. (No. of respondents: 50; hours per response: 5 hours per study area or 125 hours per state; total annual burden: 6250 hours).

h. 47 CFR 54.301—Local Switching support. See OMB control number 3060-0814.

i. 47 CFR 54.307—Reporting of expenses and number of lines served. (No. of respondents: 1300; hours per response: 2 hours to report lines and 4 hours to prepare cost study; total annual burden: 5400 hours).

j. 47 CFR 54.309—Petition for waiver. (No. of respondents: 51; hours per response: 4 hours; total annual burden: 204 hours).

k. 47 CFR 54.311—Petition for waiver. (No. of respondents: 51; hours per response: 4 hours; total annual burden: 204 hours).

l. 47 CFR 54.401(b)(1)-(2)—Submission of disconnection waiver request. (No. of respondents: 50; hours per response: 2 hours; total annual burden; 100 hours).

m. 47 CFR 54.401(d)—Lifeline certification and plans. (No. of respondents: 1300; hours per response: 1 hour; total annual burden: 1300 hours).

n. 47 CFR 54.403—Certifications Required by 47 CFR 54.403. (No. of respondents: 170,187; hours per response: .33 hours; total annual burden: 56,729 hours).

o. 47 CFR 54.405 and 54.411—Carrier Publicizing of Lifeline and Link Up Services. (No. of respondents: 2414; hours per response: 50 hours; total annual burden; 120,700 hours).

p. 47 CFR 54.407(c)—Lifeline record keeping. (No. of respondents: 1300; hours per response: 80 hours; total annual burden: 104,000 hours).

q. 47 CFR 54.409 and § 54.415—Consumer qualification for Lifeline. (No. of respondents: 5.5 million; hours per response: .08 hours; total annual burden: 440,000 hours).

r. 47 CFR 54.409(c)—Consumer notification of Lifeline discontinuance. (No. of respondents: 550,000; hours per response: .08 hours; total annual burden: 44,000 hours).

s. 47 CFR 54.413(b)—Link Up record keeping. (No. of respondents: 1300; hours per response: 80 hours; total annual burden: 104,000 hours).

t. 47 CFR 54.501(d)(3) & 54.516—Schools and libraries record keeping. (No. of respondents: 53,400; hours per response: 80 hours; total annual burden: 372,000 hours).

u. 47 CFR 54.504(b)-(d), 54.505(b)(1), (2), 54.507(d) & 54.509(a)—Description of services requested and certification. See also OMB control number 3060-0806.

v. 47 CFR 54.519—State telecommunications networks. (No. of respondents: 50; hours per response: 4 hours; total annual burden: 200 hours).

w. 47 CFR 54.601(b)(4) & 54.609—(No. of respondents: 3400; hours per response: 100 hours; total annual burden: 340,000 hours).

x. 47 CFR 54.601(b)(3) & 54.619—Shared facility record keeping. (No. of respondents: 15,400; hours per response: 40 hours for 3400 telecommunications carriers and 2 hours for 12,000 health care providers; total annual burden: 160,000 hours).

y. 47 CFR 54.607(b)(1)-(2)—Submission of proposed rural rate. (No. of respondents: 50; hours per response: 3 hours; total annual burden: 150 hours).

z. 47 CFR 54.603(b)(1), 54.615(c)-(d), & 54.623(d)—Description of services requested and certification. See also OMB control number 3060-0804.

aa. 47 CFR 54.619(d)—Submission of rural health care report (No. of respondent: 1; hours per response: 40 hours; total annual burden: 40 hours).

bb. 47 CFR 54.701(f)(1) & (f)(2)—Submission of annual report & CAM. (No. of respondents: 1; hours per response: 40 hours; total annual burden: 40 hours).

cc. 47 CFR 54.701(g)—Submission of quarterly report. (No. of respondents: 1; hours per response: 10 hours; total annual burden: 40 hours).

dd. 47 CFR 54.707—Submission of state commission designation. (No. of respondents: 3400; hours per response: .25 hours; total annual burden: 850 hours).

ee. Obligation to notify underlying carrier. (No. of respondents: 1700; hours per response: 1 hour; total annual burden: 1700 hours).

ff. Demonstration of Reasonable Steps. (No. of respondents: 50; hours per response: 1 hour; total annual burden: 50 hours).

All the requirements contained herein are necessary to implement the congressional mandate for universal service. These reporting requirements are necessary to calculate the contribution amount owed by each telecommunications carrier or to verify that particular carriers and other respondents are eligible to receive universal service support. The recordkeeping requirements should not be burdensome since most businesses ordinarily retain these types of documents. Obligation to respond: Mandatory.

Public reporting burden for the collections of information are as noted above. Send comments regarding the burden estimates or any other aspect of the collections of information, including suggestions for reducing the burden to Performance Evaluation and Records Management, Washington, DC 20554.

Federal Communications Commission.
Magalie Roman Salas,
Secretary.

[FR Doc. 01-18055 Filed 7-18-01; 8:45 am]

BILLING CODE 6712-01-U